DEPARTMENT OF ENERGY

Federal Energy Regulatory Commission

[Docket Nos. ER99-845-004; ER99-845-005; ER99-845-006; ER99-845-007; EL05-37-000]

Puget Sound Energy, Inc.; Notice of Meeting

January 12, 2005.

Purpose of Meeting: Puget Sound Energy, Inc. (Puget) has requested a meeting with Commission staff to discuss its updated market power analysis in the above-captioned proceedings.

Date and Time of Meeting: Thursday, January 13, 2005 at 11 a.m. (e.s.t.) at the offices of the Federal Energy Regulatory Commission, 888 First Street, NE., Washington, DC 20426.

Participants: Participation on this call will be limited to interested parties who have requested and been granted access to critical energy infrastructure information (CEII) in accordance with 18 CFR 1388.113(d). The CEII request form may be found at http://www.ferc.gov/help/how-to/ceii-req-form.doc. All CEII requests must be received no later than 5 p.m. (e.s.t). on January 12, 2005. Requesters will be required to sign a non-disclosure agreement prior to obtaining access to CEII. Representatives of Puget will be granted access in accordance with 18 CFR 388.113(d)(1) without having to file a formal CEII request or non-disclosure agreement.

FERC Contact: All interested parties wishing to attend or participate by telephone are asked to contact Thomas Brownfield at Thomas.Brownfield@ferc.gov or (202) 502-8666 by Wednesday, January 14, 2005, for further information.

Magalie R. Salas,
Secretary.

[FR Doc. E5-182 Filed 1-18-05; 8:45 am]

BILLING CODE 6717-01-P